FEDERAL COMMUNICATIONS COMMISSION

[WT Docket No. 02-179; DA 02-1550]

Resort Aviation Services, Inc. and Kootenai County Coeur D'Alene Airport

AGENCY: Federal Communications Commission (FCC).

ACTION: Notice.

SUMMARY: In this document the Commission designates for comparative hearing the applications of Resort Aviation Services, Inc. (Resort Aviation) for renewal of aeronautical advisory (unicom) Station WYT9, Hayden, Idaho, and Kootenai County Coeur d'Alene Airport (Kootenai County) for a new unicom station at the same location. The comparative hearing will enable the Commission to determine the best qualified applicant.

DATES: August 13, 2002 at 9:30 a.m.

ADDRESSES: Federal Communications Commission, Hearing Room A TW A-363, 445 Twelfth Street, SW., Washington, DC 20554.

FOR FURTHER INFORMATION CONTACT: Jeffrey Tobias, Wireless Telecommunications Bureau, at (202) 418-0680.

SUPPLEMENTARY INFORMATION: This is a summary of the Federal Communications Commission's Hearing Designation Order, FCC 02-1550, adopted on July 1, 2002 and released on July 2, 2002. The full text of this document is available for inspection and copying during normal business hours in the FCC Reference Center, Room CY-A257, 445 12th Street, SW., Washington, DC 20554. The complete text may be purchased from the Commission's copy contractor, Qualex International, 445 12th Street, SW., Room CY-B402, Washington, DC 20554. The full text may also be downloaded at: www.fcc.gov via the Internet. Alternative formats are available to persons with disabilities by contacting Brian Millin at (202) 418-7426 or TTY (202) 418-7365.

1. On October 15, 2001, Resort Aviation Services, Inc. (Resort Aviation) filed an application for renewal of aeronautical advisory (unicom) Station WYT9, Hayden, Idaho. Unicom stations provide information concerning flying conditions, weather, availability of ground services, and other information to promote the safe and expeditious operation of aircraft. On November 5, 2001, Kootenai County Coeur d'Alene Airport (Kootenai County) filed the above-captioned application for a new unicom station at the same location. Both applicants propose to provide service at Coeur d'Alene Airport, where there is no control tower or FAA flight service station. Under section 87.215(b) of the Commission's Rules, only one unicom station may be licensed at such airports. Accordingly, the applicants are basically qualified, but these applications are mutually exclusive and must therefore be designated for comparative hearing.

2. Pursuant to section 309(e) of the Communications Act of 1934, as amended, 47 U.S.C. 309(e), and section 1.221(a) of the Commission's Rules, 47 CFR 1.221(a), the above-captioned applications are designated for hearing in a consolidated proceeding before an FCC Administrative Law Judge to resolve the following issues:

a. To determine which applicant would provide the public with better unicom service based on the following considerations:

(1) location of the fixed-based operation and proposed radio station in relation to the landing area and traffic patterns;

(2) hours of operation;

(3) personnel available to provide unicom service;

(4) experience of applicant and employees in aviation and aviation communications;

(5) ability to provide information pertaining to primary and secondary communications as specified in § 87.257 of the Commission's Rules;

(6) proposed radio system including control and dispatch points; and

(7) the availability of the radio facilities to other fixed-based operators;

b. To determine, in light of the evidence presented, which application, if any, should be granted to best serve the public interest, convenience, and necessity.

The burden of proceeding with the introduction of evidence with respect to all the issues listed here shall be upon Resort Aviation and Kootenai County with respect to their applications.

3. The applicants, Resort Aviation and Kootenai County, must each file with the Commission, within 20 days of the mailing of this Hearing Designation Order, a written notice of appearance in triplicate, stating their intentions to appear on the date fixed for the hearing and to present evidence on the issues specified in this Order, in accordance with §§ 1.221(c), (f) and (g) of the Commission's Rules, 47 CFR 1.221(c), (f), (g). The written notice of Resort Aviation must be accompanied by a hearing fee of $9,020.00. Because it is a governmental entity, Kootenai County is exempt from the hearing fee.

4. This action is taken under delegated authority pursuant to sections 0.131 and 0.331 of the Commission's Rules, 47 CFR 0.131, 0.331.

Federal Communications Commission.
Marlene H. Dortch,
Secretary.

[FR Doc. 02-20437 Filed 8-9-02; 8:45 am]

BILLING CODE 6712-01-P